DEPARTMENT OF AGRICULTURE

Forest Service

Plumas County Resource Advisory Committee (RAC)

AGENCY: Forest Service, USDA.

ACTION: Notice of meeting.

SUMMARY: The Plumas County Resource Advisory Committee (RAC) will hold a meeting on August 5, 2005, in Portola, CA. The primary purpose of the meeting is to review Plumas National Forest Supervisor Cycle 5 project funding decisions, in addition to presentations on national RAC survey findings and various recreation topics. RAC project funding recommendations were made at a prior meeting on June 8. A short field trip will follow.

DATES AND ADDRESSES: The August 5, 2005 meeting will take place from 9-12 at the Eastern Plumas Hospital Education Center, 500 1st Street, Portola, CA. Additionally, a short field trip to the Plumas Eureka Estates thinning project will take place from 1-2:30, convening at the Beckwourth Ranger District office at 23 Mohawk Highway Road, Blairsden, CA.

FOR FURTHER INFORMATION CONTACT: Lee Anne Schramel Taylor, Forest Coordinator, USDA, Plumas National Forest, P.O. Box 11500/159 Lawrence Street, Quincy, CA 95971; (530) 283-7850; or by e-mail eataylor@fs.fed.us.

SUPPLEMENTARY INFORMATION: Agenda items for the August 5 meeting include: (1) Review Forest Supervisor Cycle 5 funding decisions; (2) Review Corridor project, discuss, and make a recommendation, (3) Presentation: national RAC survey findings, (4) Presentation: various recreation topics, and (5) Future meeting schedule/logistics/agenda. The meetings are open to the public and individuals may address the Committee after being recognized by the Chair. Other RAC information including previous meeting agendas and minutes may be obtained at http://www.fs.fed.us/r5/payments.

Dated: July 28, 2005.
Fred J. Krueger,
Public Services Staff Officer.

[FR Doc. 05-15408 Filed 8-3-05; 8:45 am]

BILLING CODE 3410-11-M